DEPARTMENT OF JUSTICE

Drug Enforcement Administration

21 CFR Part 1308

[Docket No. DEA-504]

Schedules of Controlled Substances: Placement of Solriamfetol in Schedule IV

Correction

In rule document 2019-12723 beginning on page 27943 in the issue of Monday, June 17, 2019, make the following correction:

§ 1308.14 [Corrected]

On page 27947, in the third column, in § 1308.14(f)(12), in the second line “car-bamate” should read “carbamate”.

[FR Doc. C1-2019-12723 Filed 11-7-19; 8:45 am]

BILLING CODE 1301-00-D